DEPARTMENT OF TRANSPORTATION

Surface Transportation Board

Notice and Request for Comments

AGENCY: Surface Transportation Board.

ACTION: 30-day notice of request for approval: Waybill Sample.

SUMMARY: As required by the Paperwork Reduction Act of 1995, 44 U.S.C. 3501-3519 (PRA), the Surface Transportation Board (STB or Board) has submitted a request to the Office of Management and Budget (OMB) for an extension of approval for the collection of the Waybill Sample. The Board previously published a notice about this collection in the Federal Register on June 29, 2010, at 75 FR 37,522. That notice allowed for a 60-day public review and comment period. No comments were received. The Waybill Sample collection is described in detail below. Comments may now be submitted to OMB concerning: (1) The accuracy of the Board's burden estimates; (2) ways to enhance the quality, utility, and clarity of the information collected; (3) ways to minimize the burden of the collection of information on the respondents, including the use of automated collection techniques or other forms of information technology, when appropriate; and (4) whether this collection of information is necessary for the proper performance of the functions of the Board, including whether the collection has practical utility.

Description of Collection

Title: Waybill Sample.

OMB Control Number: 2140-0015.

STB Form Number: None.

Type of Review: Extension without change.

Respondents: Any regulated railroad that terminated at least 4,500 carloads on its line in any of the three preceding years or that terminated at least 5% of the total revenue carloads that terminated in a particular State.

Number of Respondents: 52.

Estimated Time per Response: 75 minutes.

Frequency: Six (6) respondents report monthly; 46 report quarterly.

Total Burden Hours (annually including all respondents): 320 hours.

Total “Non-hour Burden” Cost: No “non-hour cost” burdens associated with this collection have been identified.

Needs and Uses: The Surface Transportation Board is, by statute, responsible for the economic regulation of common carrier rail transportation in the United States. Under 49 CFR 1244, a railroad is required to file carload waybill sample information (Waybill Sample) for all line-haul revenue waybills terminating on its lines if, in any of the three preceding years, it terminated 4500 or more carloads, or it terminated at least 5% of the total revenue carloads that terminate in a particular State. The information in the Waybill Sample is used by the Board, other Federal and State agencies, and industry stakeholders to monitor traffic flows and rate trends in the industry, and to develop testimony in Board proceedings. The Board has authority to collect this information under 49 U.S.C. 11144 and 11145.

DATES: Comments on this information collection should be submitted by January 31, 2011.

ADDRESSES: Written comments should be identified as “Paperwork Reduction Act Comments, Surface Transportation Board, Waybill Sample.” These comments should be directed to the Office of Management and Budget, Office of Information and Regulatory Affairs, Attention: Kimberly Nelson, Surface Transportation Board Desk Officer, by fax at (202) 395-6974; by mail at Room 10235, 725 17th Street, NW., Washington, DC 20503; or by e-mail at OIRA_SUBMISSION@OMB.EOP.GOV.

For Further Information or to Obtain a Copy of the STB Form, Contact: For further information regarding the Waybill Sample collection, contact Scott Decker at (202) 245-0330 or deckers@stb.dot.gov, or Paul Aguiar at (202) 245-0323 or paul.aguiar@stb.dot.gov. [Federal Information Relay Service (FIRS) for the hearing impaired: (800) 877-8339.]

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under § 3506(b) of the PRA, Federal agencies are required to provide, concurrent with an agency's submitting a collection to OMB for approval, a 30-day notice and comment period, through publication in the Federal Register, concerning each proposed collection of information, including each proposed extension of an existing collection of information.

Dated: December 28, 2010.
Andrea Pope-Matheson,
Clearance Clerk.

[FR Doc. 2010-33079 Filed 12-30-10; 8:45 am]

BILLING CODE 4915-01-P